DEPARTMENT OF EDUCATION

Office of Elementary and Secondary Education

[CFDA No. 84.338]

Reading Excellence Program

ACTION: Notice Inviting Applications for New Awards for Fiscal Year (FY) 2001.

PURPOSE OF PROGRAM: The Reading Excellence Program provides competitive grants to eligible State educational agencies to award competitive subgrants to local educational agencies to fund local reading improvement programs and tutorial assistance programs.

ELIGIBLE APPLICANTS: State educational agencies (SEAs) that were not funded in FY 1999 or FY 2000; Puerto Rico; the Virgin Islands; Guam; American Samoa; and the Commonwealth of the Northern Mariana Islands.

APPLICATIONS AVAILABLE: March 28, 2001.

DEADLINE FOR TRANSMITTAL OF APPLICATIONS: May 7, 2001.

Note: An application for an award may be submitted by electronic mail (email), regular mail, or hand delivery.

Special instructions for applications submitted by email: Applications submitted by email should include an electronic return receipt and should be emailed to: grantspolicy@ed.gov.

Applications submitted by email may be submitted in one of the following formats: (1) Microsoft Word (Version Word 95 or Word 97) or (2) portable document format (PDF). The preferred version is Word 97; however, all versions must have text search capability. The electronic version will be the official file copy. The returned receipt and copy will be considered proof of receipt. All forms requiring original signatures (ED-424, Application for Federal Education Assistance; SF 424B, Assurances: Non-Construction Programs; ED 80-0013, Certifications Regarding Lobbying, Debarment, Suspension and other Responsibility Matters; and Drug-Free Workplace Requirements; ED 80-0014, Certification Regarding Debarment, Suspension, Ineligibility and Voluntary Exclusion-Lower Tier Covered Transactions; and Form LLL, Disclosure of Lobbying Activities) must be mailed to the Department by the deadline date, as set out above under the DEADLINE FOR TRANSMITTAL section. Please send a hard copy of your application in addition to the electronic copy to ensure that your application is formatted properly when printed.

Note: Some of the procedures in these instructions for transmitting applications differ from those in 34 CFR 75.102 (EDGAR). Under 5 U.S.C. 553, the Department generally offers interested parties the opportunity to comment on proposed regulations. However, these exceptions to EDGAR make procedural changes only and do not establish new substantive policy. Therefore, under 5 U.S.C. 553(b)(A), the Secretary has determined that proposed rulemaking is not required.

Deadline for Intergovernmental Review: May 22, 2001.

Estimated Available Funds: $316,495,390.

Estimated Range of Awards: $500,000-$60,000,000.

Estimated Average Size of Awards: $21,125,693.

Estimated Number of Awards: 15.

Project Period: Up to 36 months.

Minimum Grant Award for SEAs: $500,000 for SEAs, $100,000 minimum for territories

Note: The Department is not bound by any estimates in this notice.

Page Limit: The application narrative (Part III of the application) is where you, the applicant, address the selection criteria reviewers use to evaluate your application. You must limit Part III to the equivalent of no more than 100 pages, using the following standards:

• A “page” is 8.5″ x 11″, on one side only, with 1” margins at the top, bottom, and both sides.

• Single space (no more than six lines per vertical inch) all text in the application narrative.

• Use a font that is either 11-point or larger or no smaller than 10 pitch (characters per inch).

The page limit does not apply to Part I, the cover sheet; Part II, the budget section, including the narrative budget justification; Part IV, the assurances and certifications; or the one-page abstract, the resumes, the bibliography, the letters of support or the two permissible appendices. However, you must include all of the application narrative in Part III.

Our reviewers will not read any pages of your application that:

• Exceed the page limit if you apply these standards; or

• Exceed the equivalent of the page limit if you apply other standards.

APPLICABLE REGULATIONS: (a) The Education Department General Administrative Regulations (EDGAR) in 34 CFR Parts 75, 77, 79, 80, 81, 82, 85, 86, 97, 98, and 99; (b) 34 CFR and Part 299 and (c) The final priorities, application requirements and selection criteria published by the Department in the Federal Register on April 18, 2000. (65 FR 20881-20884). Upon publication of that document, the Department announced that the contents applied to the fiscal year 2000 competition and may be used for future competitions. The Department has chosen to apply those fiscal year 2000 final priorities, application requirements and selection criteria to the fiscal year 2001 competition.

FOR APPLICATIONS AND FURTHER INFORMATION: Send an email message requesting an application to: reading_excellence@ed.gov.

You may also receive an application by downloading it from the reading excellence website: http://www.ed/gov.offices/OESE/REA/index.html or by contacting Nancy Rhett, U.S. Department of Education, 400 Maryland Avenue, SW, Room 5C141, Washington, DC 20202-6200; Telephone: (202) 260-8228. If you use a telecommunications device for the deaf (TDD), you may call the Federal Information Relay Service (FIRS) at 1-800-877-8339.

Individuals with disabilities may obtain this document in an alternative format (e.g., Braille, large print, audiotape, or computer diskette) on request by contacting Katie Mincey, Director, Alternate Format Center, 330 C St. SW, Room 1000, Washington, DC 20202-4560; by calling (202) 260-9895 or 205-8113; or by emailing: katie_mincey@ed.gov.

Individuals with disabilities also may obtain a copy of the application package in an alternate format by contacting Ms. Mincey. However, the Department is not able to reproduce in an alternate format the standard forms included in the application package.

Electronic Access to This Document

You may view this document, as well as all other Department of Education documents published in the Federal Register, in text or Adobe Portable Document Format (PDF) on the Internet at either of the following sites:

http://ocfo.ed.gov.fedreg.htm

http://www.ed.gov/news.html

To use the PDF file you must have the Adobe Acrobat Reader Program, which is available free at either of the preceding sites. If you have questions about using the PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://access.gpo.gov/nara/index.html.

Program Authority: 20 U.S.C. 6661 et seq.

Dated: March 23, 2001.
Thomas M. Corwin,
Acting Deputy Assistant Secretary for Elementary and Secondary Education.

[FR Doc. 01-7695 Filed 3-28-01; 8:45 am]

BILLING CODE 4000-01-U